NEIGHBORHOOD REINVESTMENT CORPORATION

Sunshine Act Meeting

Time & Date: 2 PM, Monday, December 17, 2001.

Place: Neighborhood Reinvestment Corporation, 1325 G Street, NW, Suite 800, Washington, DC 20005.

Status: Open/Closed.

Contact Person for More Information: Jeffrey T. Bryson, General Counsel/Secretary, 202-220-2372.

Agenda:

I. Call to Order

II. Approval of Minutes: September 21, 2001 Regular Meeting

III. Treasurer's Report

IV. Strategic Plan Adoption

V. Executive Directors Quarterly Management Report

VI. Executive Session (Closed)

(A) Personnel Committee Report—11/14/01

(B) Personnel Committee Report—12/04/01

VII. Adjournment

Jeffrey T. Bryson,
General Counsel/Secretary.

[FR Doc. 01-30853 Filed 12-10-01; 3:48 pm]

BILLING CODE 7570-01-M